DEPARTMENT OF COMMERCE

National Oceanic and Atmospheric Administration

RIN 0648-XO95

Endangered and Threatened Species; Take of Anadromous Fish

AGENCY: National Marine Fisheries Service (NMFS), National Oceanic and Atmospheric Administration (NOAA), Commerce.

ACTION: Applications for six new scientific research permits, 12 modifications, and one renewal.

SUMMARY: Notice is hereby given that NMFS has received 19 scientific research permit application requests relating to Pacific salmon and green sturgeon. The proposed research is intended to increase knowledge of species listed under the Endangered Species Act (ESA) and to help guide management and conservation efforts. The applications may be viewed on the NMFS website at https://apps.nmfs.noaa.gov/preview/preview_open_for_comment.cfm.

DATES: Comments or requests for a public hearing on the applications must be received at the appropriate address or fax number (see ADDRESSES) no later than 5 p.m. Pacific standard time on June 1, 2009.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer, threatened SR fall, threatened Puget Sound (PS).

Chum salmon (O. keta): threatened Columbia River (CR), threatened Hood Canal (HC).

Steelhead (O. mykiss): threatened LCR, threatened UWR, threatened middle Columbia River (MCR), threatened Snake River (SN), endangered UCR, threatened PS.

Coho salmon (O. kisutch): threatened LCR, threatened Southern Oregon Northern California Coasts (SONCC), threatened Oregon coastal (OC).

Sockeye salmon (O. nerka): endangered SN.

Green Sturgeon (Acipenser medirostris)

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1127 - 2R

The Shoshone-Bannock Tribe (SBT) is seeking to renew its permit to annually take listed salmon and steelhead while conducting research designed to (a) monitor adult and juvenile fish in key upper SR basin watersheds, (b) assess the utility of hatchery Chinook salmon in increasing natural populations in the Salmon and Clearwater Rivers, and (c) evaluate the genetic and ecological impacts of hatchery Chinook salmon on natural populations. The fish would primarily benefit from the research in two ways. First, the research would broadly be used to help guide restoration and recovery efforts throughout the SR basin. Second, and more specifically, the research would be used to determine how hatchery supplementation can be used as a tool for salmon recovery. The SBT would observe, capture, anesthetize, handle, and tag the listed fish. The SBT does not propose to kill any of the fish being captured but some may die as an unintended result of the research.

Permit 1336 - 5M

Port Blakely Farms (PBF) is seeking to modify their current research permit. The current permit authorizes the PBF to take juvenile natural origin and hatchery origin PS Chinook while conducting research designed to evaluate factors limiting fish distribution and water quality in streams owned by the PBF. The research would benefit listed salmonids by producing data to be used in conserving and restoring critical habitat. The modification would allow PBF to take juvenile, natural-origin PS steelhead. The PBF proposes to capture fish using backpack electrofishing and dipnetting, then handle, and release juvenile fish. The PBF does not propose to kill any of the fish being captured, but a small percentage may die as an unintended result of the activities.

Permit 1345 - 5M

The Washington Department of Fish and Wildlife (WDFW) is seeking to modify Permit 1345 - 4R which currently authorizes them to annually take listed salmonids during the course of Washington State's annual warmwater fish stock assessment surveys. They wish to modify the permit by increasing (slightly) the number of fish they may take and by adding one study in the Cedar River, Washington, and another in the Middle Columbia River. The purpose of the warmwater surveys is to gather data on the State's fish species and thereby allow the WDFW to manage them in the best way possible. The research would benefit listed fish by giving managers more information on their abundance, distribution, and health. The surveys would be conducted using boat electrofishing equipment in the backwater sloughs, oxbow lakes, and ponds associated with major river systems throughout Washington State. The purpose of the Cedar River study is to monitor predation by trout and other species on listed Chinook in the Cedar River. The research would benefit listed fish by helping managers set fishing regulations in a manner that would reduce predators--and therefore predation--on the local PS Chinook populations. This study would employ boat electrofishing. The study in the Middle Columbia River-Priest Rapids complex would be similar to the Cedar River study the researchers would examine predation among juvenile UCR Chinook and sockeye. This study would use a combination of tangle nets and boat electrofishing.

Any juvenile listed salmonids captured during the research would be sampled for biological information and immediately released. If adult listed salmonids are seen, the electrofishing equipment would be turned off and the fish allowed to escape. The WDFW does not propose to kill any of the fish being captured, but a small percentage may die as an unintended result of the research activities.

Permit 1521 - 2M

Wyllie-Echeverria Associates (WEA) is requesting a modification to their current research permit. The current permit authorizes the WEA to take juvenile natural origin and hatchery origin PS Chinook while conducting research designed to determine which salmonid species and which Chinook salmon stocks use the nearshore marine habitats of Orcas and Waldron Islands, Washington. The modification would allow them to take juvenile natural origin PS steelhead. The WEA proposes to capture fish using beach seines, toss nets, and surface tow nets. The fish would be handled, anesthetized, fin clipped, and released at selected sites in the nearshore marine habitats of the islands. The WEA does not propose to kill any of the fish being captured, but a small percentage may die as an unintended result of the activities.

Permit 1524 - 2M

The Northwest Fisheries Science Center (NWFSC) is seeking to modify their current research permit. The current permit authorizes the NWFSC to take juvenile natural origin PS Chinook while conducting research designed to study changes in population characteristics of wild Chinook and coho in response to estuarine habitat reconnection and restoration in the Skagit River and Puget Sound, Washington. The modification would allow them to take juvenile natural origin PS steelhead. The NWFSC proposes to capture fish using beach seines, mark fish and place them in enclosures. All captured steelhead would immediately be released. A portion of the juvenile Chinook captured would be sacrificed for diet and otolith analysis. All samples collected would be stored at the Northwest Fisheries Science Center. Aside from the few fish that may be sacrificed, the NWFSC does not propose to kill any listed fish, though a few may die as an unintended consequence of the research actions.

Permit 1562 - 3M

The Oregon Department of Environmental Quality (DEQ) Laboratory and Environmental Assessment Division is asking to modify Permit 1562. The Permit currently authorizes them to take adult and juvenile UWR Chinook and steelhead; adult and juvenile LCR Chinook, coho, and steelhead; adult and juvenile CR chum; adult and juvenile MCR steelhead; adult and juvenile SR steelhead, fall-run Chinook, spring/ summer-run Chinook, and sockeye; adult and juvenile OC coho; and adult and juvenile SONCC coho during the course of monitoring to evaluate the status of all perennial streams (wadeable and non-wadeable) across the United States. The permit would be modified by adding several take locations in Oregon and the Columbia River (and thereby increasing slightly the number of listed fish they are allowed to take). The Modification would also allow them to take UCR steelhead and Chinook. The monitoring would be conducted as part of the national Environmental Monitoring and Assessment Program (EMAP) which aims to advance the science of ecological monitoring and ecological risk assessment, guide national monitoring with improved scientific understanding of ecosystem integrity and dynamics, and demonstrate multi-agency monitoring through large regional projects. The monitoring would benefit listed salmonids by providing data and assessments of fish habitat condition and ecological resources to decision makers and the public.

The DEQ proposes to capture (using backpack and boat electrofishing), identify, measure, and release juvenile fish. Adult fish may be encountered but would not be captured. The DEQ does not propose to kill any of the fish being captured, but a few may die as an unintended result of the activities.

Permit 1564 - 2M

The University of Washington (UW) is seeking to modify their current research permit. The current permit authorizes the UW to take juvenile natural and hatchery origin PS Chinook while conducting research designed to monitor the success of habitat restoration projects within the Duwamish River estuary. The modification would allow them to add PS steelhead to the listed fish they are allowed to take. The goal of these projects is to understand changes in population characteristics among Chinook salmon in response to restoration of estuarine habitat. The habitat restoration work was conducted by the Port of Seattle and monitoring was a requirement of the permit issued by the Army Corps of Engineers. The habitat restoration projects were designed to improve habitats that are used by Chinook salmon for rearing and migration. Monitoring the restoration sites would help determine the effectiveness of the projects. The UW proposes to capture fish using enclosure nets and beach seines. Half of the juvenile Chinook salmon would be counted, checked for external marks and internal coded-wire tags, measured, and released. The other half of the captured juvenile Chinook would have their stomach contents sampled. The UW does not propose to kill any fish being captured but some may die as an unintentional result of the activities.

Permit 1566 - 2M

The Northwest Fisheries Science Center (NWFSC) is seeking to modify their current research permit. The current permit authorizes the NWFSC to take juvenile natural origin and hatchery origin PS Chinook while conducting research designed to monitor proposed restoration sites along the Puget Sound shoreline, from near the Hiram Chittenden Locks north to Everett. The researchers determine fish presence, assess individual fish health, and examine the fishes' degree of toxic chemical contamination. The goal is to establish a pre-restoration baseline of the conditions at each of the proposed restoration sites and to monitor conditions following restoration. Sediments would be collected for each site for chemical analysis. The modification would (1) add juvenile PS steelhead to the fish they are allowed to take, and (2) increase slightly the amounts of take and unintentional mortality among juvenile PS Chinook.

The NWFSC proposes to capture fish using beach seines, measure them, analyze individual condition factors and whole body lipid content, and release them. A portion of the juvenile Chinook captured would be sacrificed during the process. All samples collected would be consumed during the process of chemical and hormonal analysis of tissues.

Permit 1567 - 2M

Ridolfi, Incorporated is seeking to modify their current research permit. The current permit authorizes the Ridolfi to take juvenile natural origin and hatchery origin PS Chinook while conducting research designed to monitor habitat restoration sites in the Commencement Bay of the Puget Sound. The goals are to measure the success of restoration efforts, identify adaptive management approaches if projects are not achieving goals, address monitoring requirements specified by permitting agencies, and serve as an outreach tool for dissemination of project information to interested parties. Commencement Bay provides nearshore marine and estuarine habitat for adult and juvenile Chinook salmon as well as the resident “blackmouth” stock of Chinook salmon and PS steelhead. While Puget Sound steelhead are not targeted, they may be encountered during the project; thus the modification would allow them to add juvenile PS steelhead to the fish they are currently allowed to take.

Ridolfi, Inc., proposes to capture fish using block nets and beach seine nets at six restoration sites throughout Commencement Bay and its tributaries. Fish would be collected, identified by species, checked for marks or coded-wire tags, measured, and released. All fish would be sampled and released in a timely and appropriate manner in order to minimize stress. Every effort would be made to minimize injury. Ridolfi, Inc., does not propose to kill any of the fish being captured but some may die as an unintentional result of the activities.

Permit 1568 - 2M

The NWFSC is seeking to modify their current research permit. The current permit authorizes the NWFSC to take juvenile natural origin and hatchery origin PS Chinook while conducting research designed to provide information on their basic life histories, ecology, and genetic compositions in the Snohomish River estuary in Washington State. The study is designed to (1) characterize the ecology of existing Chinook salmon populations and life history types in the Snohomish River estuary, and (2) evaluate how effectively habitat protection and restoration actions in the estuary help Chinook salmon populations in the Snohomish River basin. The information gathered by this research would benefit the fish by helping recovery planning in the Snohomish River estuary and other estuaries of the Puget Sound. The modification would allow the NWFSC to add juvenile PS steelhead to the fish they are currently permitted to take.

The NWFSC proposes to capture fish using fyke nets and beach seines. They would then be anesthetized, measured, and weighed. The fish would also be tissue-sampled and checked for external marks and coded-wire tags. A portion of the captured fish would be sacrificed for full necropsy and a few more may die as an unintended result of the research. Accidental mortalities would be used in place of any sacrificed fish wherever possible. Any fish killed during field operations would be labeled and placed on ice in a plastic bag, then brought to the NWFSC and immediately frozen. Specimens would be thawed, weighed and measured; body tissues and otoliths, scales, kidney, fin clip, stomach, and CWTs would be removed and preserved. Remaining body tissues would be archived.

Permit 1585 - 2M

The Washington State Department of Natural Resources (DNR) is seeking to modify their current research permit. The current permit authorizes the DNR to take juvenile natural origin PS Chinook and HC chum while conducting research designed to determine the presence and distribution of salmonids to help improve management decisions. The modification would allow them to add juvenile PS steelhead to the fish they are currently permitted to take. The DNR proposes to capture (using backpack electrofishing equipment), handle, and release listed salmonids. The DNR does not propose to kill any of the fish being captured, but a small number may die as an unintended result of the activities.

Permit 1586 - 2M

The NWFSC is seeking to modify their current research permit. The current permit authorizes the NWFSC to take juvenile natural origin and hatchery origin PS Chinook and HC chum while conducting research designed to characterize how wild, juvenile PS Chinook salmon use nearshore habitats in the Whidbey Basin, Admiralty Inlet, the Strait of Juan de Fuca, and the San Juan Islands. Additional goals are to define what life history strategies are present in these areas, and identify their residence time, distribution, timing of movements, diet, health, age, and origin. This research would benefit the listed species by helping managers develop protection and restoration strategies and monitor the effects of recovery actions. The modification would (1) add PS steelhead to the listed fish they are allowed to take, and (2) increase slightly the unintentional mortality of juvenile natural origin HC chum. The NWFSC proposes to capture fish using beach seines, tow nets, purse seines, and lampera nets, temporarily hold fish in live-wells, mesh pens, aerated buckets (or in the bag of the net), anesthetize, measure, weigh, check for tags or marks, fin clip, allow fish to recover from anesthesia, and release the listed salmonids. A subsample of juvenile PS Chinook would be tagged with acoustic transmitters. A small portion of the captured juvenile PS Chinook would be killed for whole body analysis, but the great majority are not intended to be sacrificed. Any fish unintentionally killed during the research would be used in place of the sacrificed fish.

Permit 1605 - 2M

Windward Environmental, LLC (Windward) is seeking to modify their current research permit. The current permit authorizes Windward to take juvenile and adult natural origin PS Chinook during the course research intended to characterize concentrations in fish tissues following remediation of contaminated sediments in the Lower Duwamish Waterway (LDW) Superfund Site and East Waterway Operable Unit of the Harbor Island Superfund Site. The long-term goal is to provide information to help resource managers determine if remediation activities have successfully reduced the concentration of chemical contaminants in fish and other animals. An additional goal is to further characterize the LDW environment and determine what risks contaminated sediments pose to the organisms living in it and to humans using it. The modification would allow Windward to intentionally kill a small number of both hatchery and natural origin juvenile Chinook. It would also allow them to take juvenile PS steelhead and adult PS Chinook. Continued fish tissue monitoring would be used to determine if cleanup activities are successfully reducing chemical contaminant concentrations in the superfund sites. If monitoring results show elevated risks, additional remedial actions may be considered.

Windward proposes to capture fish using trawl nets, beach seine, and traps. Most fish would be captured, handled, and released. Targeted juvenile Chinook would be sorted and placed in a bucket of ice, inspected for damage, and placed in Ziploc bags, and transported to coolers for processing and analysis.

Permit 13374

The Bonneville Power Administration (BPA) is seeking a 5-year permit to annually take juvenile, natural MCR steelhead during the course of research designed to assess the current distribution and health of the fish in Rock Creek, Washington. The research would benefit the fish by helping managers plan recovery actions in the area—particulalry the Rock Creek Subbasin Recovery Planning Group. The researchers would use backpack electrofishing units to capture the fish. The fish would then be anesthetized, measured, and given passive integrated transponder (PIT) tags. Some of the fish would also receive fin clips for genetic sampling purposes. Another portion of the fish would be sacrificed do determine if any pathogens are present in the population. Any fish that die as an accidentlal result of the capturing and tagging activities would be used in place of fish that would have been lethally taken for the pathogen analysis.

Permit 13475

The United States Fish and Wildlife Service (FWS) is requesting a 5-year research permit to take juvenile and adult UCR Chinook salmon, SR spr/sum Chinook salmon, SR fall Chinook salmon, LCR Chinook salmon, UWR Chinook salmon, CR chum salmon, LCR coho salmon, SR sockeye salmon, UCR steelhead, SR steelhead, MCR steelhead, LCR steelhead, and UWR steelhead. The FWS manages five National Wildlife Refuges (NWRs) in the lower Columbia River basin (i.e., Lewis and Clark, Julia Butler Hansen, Ridgefield, Steigerwald, Franz Lake, and Pierce NWRs). These NWRs provide important rearing and migration habitat for listed species of salmon and steelhead. The purpose of the FWS's research is to (1) inventory and characterize fish and aquatic resources and (2) monitor and assess habitat restoration and management actions in the NWRs and surrounding areas. The research would benefit listed salmonids by providing baseline information about the distribution and abundance of listed salmonids within the NWRs and helping managers monitor the effectiveness of habitat restoration projects. The FWS would capture fish using seines, nets, traps, and backpack and boat electrofishing equipment. Captured salmon and steelhead would be identified by species, measured, and released. Subsamples of the captured fish would be variously marked, sampled for scales, stomach contents, and fin tissue. Some fish may be collected and transported to new locations. The FWS does not propose to kill any of the fish being captured, but a small number may die as an unintended result of the activities.

Permit 14046

The King County Department of Natural Resources and Parks (KCDNRP) is requesting a research permit to take juvenile PS Chinook and steelhead during studies designed to (1) evaluate the effectiveness of restoration actions through biological monitoring, (2) understand the importance of agricultural drainage ditches and other off-channel habitats in providing habitat for listed species, and (3) assess salmonid habitat status and trends in small streams with varying degrees of land use. By conducting this research, the KCDNRP would be implementing actions identified in the NOAA-approved salmon recovery plan to benefit Chinook in the following four major watersheds: Snoqualmie, Cedar/Sammamish, Green/Duwamish, and Puyallup/White. This research would provide data to determine if restoration and recovery actions in the Plan are contributing to the recovery of Chinook salmon and steelhead, provide information on the extent of rearing by juvenile salmonids in agricultural watercourses, guide future projects so they may be more precisely designed to take advantage of the results from monitoring, provide information on habitat use by yearling fall Chinook, and contribute to our knowledge of Chinook life histories.

The KCDNRP proposes to monitor juvenile Chinook and steelhead by conducting snorkel surveys and capturing fish with seines, fyke nets, minnow traps, and backpack electrofishing. Fish would be captured, removed from nets or traps quickly and temporarily retained in cool, aerated water. Time spent handling fish would be kept to a minimum to limit stress. After handling, all fish would be allowed to recover in cool, aerated water, and released. When necessary, fish would be anaesthetized. The KCDNRP does not propose to kill any listed fish but a small number may die as an unintended result of the activities.

Permit 14271

The Washington State Department of Ecology (ECY) is requesting a 2-year scientific research permit to take juvenile and adult PS Chinook salmon, PS steelhead, and HC chum salmon. The purpose of the project is to develop a sampling plan that reports on the status of watershed health and salmon recovery efforts at three spatial scales: Water Resource Inventory Area, Salmon Recovery Region, and statewide. The goal is to develop a quality assurance monitoring plan for statewide probability-based sampling of aquatic habitat conditions and species diversity and abundance. The ECY's research application is for the pilot project which would take place in the Puget Sound, Hood Canal, and Strait of Juan de Fuca. The information gathered by this research would benefit listed salmonids by helping resource managers evaluate the effectiveness of habitat restoration efforts and the status and trends of aquatic species. The applicant proposes to capture fish with backpack and boat electrofishing equipment in at least fifty sites within the Puget Sound, Hood Canal, and Strait of Juan de Fuca. Listed fish would be enumerated and immediately released. The applicant does not propose to kill any listed fish species, but a small number may die as an unintended result of the activities.

Permit 14283

Environmental Assessment Services (EAS) is requesting a scientific research permit sample fish in the Columbia River in support of the U.S. Department of Energy's Hanford Site Cleanup Mission and regulatory drivers under the Comprehensive Environmental Response, Compensation, and Liability Act (CERCLA). The research would take place in four areas the Columbia River waters extending from upstream of Wanapum Dam to McNary Dam. The researchers are targetting non-listed resident fish but may also capture UCR steelhead and Chinook, MCR steelhead, and SR fall Chinook, spr/sum Chinook, and Steelhead. The research would benefit listed fish by helping monitor and reduce contamination from the Hanford Nuclear Reservation. The researchers would capture the fish using electrofishing, hook and line, and long-line techniques. Any captured listed fish would immediately be released. The researchers do not propose to kill any listed fish but a small number may die as an unintended result of the activities.

Permit 14290

The NWFSC is seeking a permit to examine fish behavior and develop criteria to be used in designing effective screening and bypass systems at dams on the Columbia River (and elsewhere). Researchers would videotape juvenile SR fall Chinook salmon to determine if their behavior is altered in regard to velocity gradient changes in a test flume at McNary Dam. The research would benefit the fish by helping managers design safer, more efficient bypass units for fish to use when moving past hydroelectric facilities.

The fish would be collected from orifice traps installed within the bypass channel at McNary Dam and transferred to the test flume. They would then be video-taped as they approach and either pass through or reject an orifice in the McNary flume. Different flow conditions would be created by changing the head on the orifice. The researchers would then overlay a flow profile of the test area on the videos and determine specific areas and movements for the test fish. After testing, the fish would be returned to the bypass channel. The researchers do not propose to kill any of the fish being tested, but a small number may die as an unintended result of the activities.

Permit 14457

The Columbia River Estuary Study Taskforce (CREST) is seeking to renew research previously done under Permit 13508, while increasing the numbers of locations and fish to be taken. Under the new permit they would annually capture, handle, and release juvenile SR sockeye salmon, SR fall Chinook salmon, SR spring/summer Chinook salmon, UCR Chinook salmon, LCR Chinook salmon, UWR Chinook salmon, SR steelhead, UCR steelhead, MCR steelhead, LCR steelhead, UWR steelhead, LCR Coho, CR chum salmon, OC coho salmon, and green sturgeon. The research would take place in Baker Bay, Grays Bay, Washington and Youngs Bay, Oregon in the Columbia River estuary, and Ecola Creek, just south of the Columbia River confluence. The purpose of the research is to evaluate estuarine habitat restoration efforts. Specific objectives are to (1) determine species composition, relative abundance, and residence time of various listed fish by using pre-restored and restoration project habitats and adjacent references sites; (2) determine prey utilization by juvenile salmon; and (3) determine prey availability. The research would benefit listed salmonids by determining how effectively currently altered habitats support salmonids and using that information to guide future habitat modifications.

The CREST would capture the fish using fyke nets, trap nets, and beach seines. Salmonids would be anesthetized, identified, counted, measured, weighed, checked for tags and hatchery marks, and released. Some of the fish may be tagged with passive integrated transponders, or injected with dye or visible implant elastomers. Fin or scale samples for genetic or age analysis would be taken from a portion of the captured juvenile Chinook salmon. Some of the captured juvenile salmonid would be sampled for stomach contents. The CREST does not propose to kill any of the fish being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 28, 2009.
Susan Pultz,
Acting Chief, Endangered Species Division, Office of Protected Resources, National Marine Fisheries Service.

[FR Doc. E9-10057 Filed 4-30-09; 8:45 am]

BILLING CODE 3510-22-S